Proclamation 8006 of April 20, 2006

National Crime Victims' Rights Week, 2006

By the President of the United States of America

A Proclamation

During National Crime Victims' Rights Week, we underscore our commitment to safeguarding the rights of the victims of crime and their families, and we honor those who bring them hope and comfort.

Behind each crime victim there is a story of trauma, a story of suffering, and a story of lost security. This year's theme, “Victims' Rights: Strength in Unity,” emphasizes the importance of joining together to support these individuals and to promote victims' rights and services. With the help of victim service providers, faith-based and community groups, justice professionals, and volunteers, we can work to improve the lives of crime victims across our country.

Violent crime rates have fallen to their lowest levels since the 1970s, and we must continue our progress in the fight against crime and remain dedicated to protecting the rights of crime victims. The Office for Victims of Crime at the Department of Justice (DOJ) provides funding to States for victim assistance programs and supports training on victims' rights for criminal justice professionals. To increase access to comprehensive support and services for victims of domestic violence, the DOJ awarded more than $20 million to support the creation of 15 Family Justice Centers across the country. Several of these centers have opened and are making a difference in victims' lives. To further ensure basic rights for all victims, we must also ratify a Crime Victims' Rights Amendment to the Constitution.

To learn more about victims' rights and how to make a difference, visit crimevictims.gov. All Americans share a responsibility to help victims of crime, and our Nation will continue to work together to achieve justice for victims and build a more hopeful society for all.

NOW, THEREFORE, I, GEORGE W. BUSH, President of the United States of America, by virtue of the authority vested in me by the Constitution and laws of the United States, do hereby proclaim April 23 through April 29, 2006, as National Crime Victims' Rights Week. I encourage all Americans to promote awareness of victims' rights and advance this important cause.

IN WITNESS WHEREOF, I have hereunto set my hand this twentieth day of April, in the year of our Lord two thousand six, and of the Independence of the United States of America the two hundred and thirtieth.

B

[FR Doc. 06-3975

Filed 4-24-06; 9:07 am]

Billing code 3195-01-P